DEPARTMENT OF DEFENSE

Office of the Secretary

[Docket ID: DOD-2019-OS-0037]

Privacy Act of 1974; System of Records

AGENCY: Defense Finance and Accounting Service, DoD.

ACTION: Rescindment of a system of records notice.

SUMMARY: The Defense Finance and Accounting Service is rescinding a system of records, T7901b, Consolidated Returned Items Stop Payment System. This system of records assisted in the processing and tracking of military pay returned checks for the active U.S. Army and Reserve military members. The Consolidated Returned Items Stop Payment System (CRISPS) is no longer in use and is considered deactivated.

DATES: This action will be effective April 10, 2019. The specific date for when this system ceased to be a Privacy Act System of Records is February 22, 2017.

FOR FURTHER INFORMATION CONTACT: Mr. Gregory L. Outlaw, DFAS Privacy Officer, Defense Finance and Accounting Service, Corporate Communications Office, FOIA/PA Adherence Division, 8899 East 56th St., Indianapolis, IN 46249-3300, (317) 212-4591.

SUPPLEMENTARY INFORMATION: The Consolidated Returned Items Stop Payment System (CRISPS) is no longer in use and is considered deactivated. All CRISPS customers successfully migrated to the system of records, T7320a, Deployable Disbursing System. The system of records notice for the Deployable Disbursing System is at 78 FR 14286 (March 5, 2013) and 72 FR 30785 (June 4, 2007). Department of Defense system of records notices subject to the Privacy Act of 1974 (5 U.S.C. 552a), as amended, have been published in the Federal Register and are available from the address in FOR FURTHER INFORMATION CONTACT or at the Defense Privacy, Civil Liberties and Transparency Division website at http://dpcld.defense.gov/. The proposed systems reports, as required by the Privacy Act of 1974, as amended, were submitted on January 15, 2019, to the House Committee on Oversight and Government Reform, the Senate Committee on Homeland Security and Governmental Affairs, and on February 13, 2019, to the Office of Management and Budget (OMB) pursuant to Section 6 to OMB Circular No. A-108, “Federal Agency Responsibilities for Review, Reporting, and Publication under the Privacy Act,” revised December 23, 2016 (December 23, 2016, 81 FR 94424).

System Name and Number

Consolidated Returned Items Stop Payment System (CRISPS), T7901b

History

May 28, 2013, 78 FR 31905.

Dated: April 4, 2019.
Aaron T. Siegel,
Alternate OSD Federal Register Liaison Officer, Department of Defense.

[FR Doc. 2019-07032 Filed 4-9-19; 8:45 am]

BILLING CODE 5001-06-P